DEPARTMENT OF TRANSPORTATION

Federal Railroad Administration

[Docket No. FRA-2009-0016]

Metrics and Standards for Intercity Passenger Rail Service under Section 207 of the Passenger Rail Investment and Improvement Act of 2008

AGENCY: Federal Railroad Administration (FRA), Department of Transportation (DOT).

ACTION: Response to Comments; Issuance of Metrics and Standards.

SUMMARY: Section 207 of the Passenger Rail Investment and Improvement Act of 2008 (Division B of Pub. L. 110-432) (PRIIA) charged the Federal Railroad Administration (FRA) and Amtrak jointly and in consultation with other parties, with developing new or improving existing metrics and minimum standards for measuring the performance and service quality of intercity passenger train operations. In compliance with the statute, the FRA and Amtrak jointly drafted performance metrics and standards for intercity passenger rail service and, on March 13, 2009, posted a draft document, entitled “Proposed Metrics and Standards for Intercity Passenger Rail Service,” on the FRA's Web site. Simultaneously, the FRA published a notice in the Federal Register (74 FR 10983) requesting comments on the Proposed Metrics and Standards from the Surface Transportation Board, rail carriers over whose rail lines Amtrak trains operate, States, Amtrak employees, nonprofit employee organizations representing Amtrak employees, and groups representing Amtrak passengers. Seventeen comments were submitted to the corresponding docket (number FRA-2009-0016) at regulations.gov by the end of the comment period on March 27, 2009 and as a result, the FRA and Amtrak have jointly made, and are jointly issuing, revisions to the Metrics and Standards. The final version of the Metrics and Standards is posted on the FRA's Web site at http://www.fra.dot.gov/us/content/2165.

DATES: These Metrics and Standards are in effect as of May 11, 2010.

FOR FURTHER INFORMATION CONTACT: Neil E. Moyer, Chief, Financial and Economic Analysis Division, Office of Passenger and Freight Programs, Office of Railroad Policy and Development, Federal Railroad Administration, U.S. Department of Transportation (e-mail Neil.Moyer@dot.gov; telephone 202-493-6365); or Edgar E. Courtemanch, Sr. Principal, Operations Service Planning, Amtrak (e-mail CourteE@amtrak.com; telephone 202-906-3249).

Issued in Washington, DC, on May 6, 2010.
Neil E. Moyer,
Chief, Financial and Economic Analysis Division.

[FR Doc. 2010-11261 Filed 5-11-10; 8:45 am]

BILLING CODE 4910-06-P